DEPARTMENT OF ENERGY

Federal Energy Regulatory Commission

[Project No. 2100-052-CA]

California Department of Water Resources; Notice of Designation of Certain Commission Personnel as Non-Decisional

December 7, 2004.

Commission staff member Kenneth Hogan (Office of Energy Projects; kenneth.hogan@ferc.gov, 202-502-8434;) is assigned to help resolve environmental and other issues associated with the development of a comprehensive settlement agreement for the Oroville Project. The parties involved in the settlement process wish to complete a comprehensive settlement agreement and file an offer of settlement before the license application is due in January 2005.

As non-decisional staff, Mr. Hogan will not participate in an advisory capacity in the Commission's review of any offer of settlement or settlement agreement, or deliberations concerning the disposition of the relicense application once it is filed for the project.

Different Commission advisory staff will be assigned to review any offer of settlement or settlement agreement, and process the relicense application, including providing advice to the Commission with respect to the agreement and application. Non-decisional staff and advisory staff will be prohibited from communicating with one another concerning any filed settlement and relicense application for the project.

Magalie R. Salas,
Secretary.

[FR Doc. E4-3614 Filed 12-13-04; 8:45 am]

BILLING CODE 6717-01-P